DEPARTMENT OF THE INTERIOR

National Park Service

[NPS-WASO-NAGPRA-NPS0034803; PPWOCRADN0-PCU00RP14.R50000]

Notice of Inventory Completion: U.S. Department of the Interior, Bureau of Indian Affairs, Washington, DC

AGENCY: National Park Service, Interior.

ACTION: Notice.

SUMMARY: In accordance with the Native American Graves Protection and Repatriation Act (NAGPRA), the U.S. Department of the Interior, Bureau of Indian Affairs (BIA), has completed an inventory of human remains and has determined that there is no cultural affiliation between the human remains and any Indian Tribe. The human remains were removed from San Juan County, NM.

DATES: Disposition of the human remains and associated funerary objects in this notice may occur on or after December 7, 2022.

ADDRESSES: Tamara Billie, NAGPRA Coordinator, Bureau of Indian Affairs, 1001 Indian School Road NW, Mailbox 44—Suite 345, Albuquerque, NM 87104, telephone (505) 879-9711, email tamara.billie@bia.gov.

SUPPLEMENTARY INFORMATION: This notice is published as part of the National Park Service's administrative responsibilities under NAGPRA. The determinations in this notice are the sole responsibility of the BIA. The National Park Service is not responsible for the determinations in this notice. Additional information on the determinations in this notice, including the results of consultation, can be found in the inventory or related records held by the BIA.

Description

In 1944, human remains (catalog numbers DU 6014 and DU 6056) representing, at minimum, one individual were removed from near Shiprock, in San Juan County, NM, possibly by Dr. E.B. Renaud, founder of the University of Denver Department of Anthropology, and were subsequently housed at the University of Denver Museum of Anthropology. No known individual was identified. No associated funerary objects are present.

Tribal Land

The human remains in this notice were removed from a known geographic location. At the time of removal, this location was the tribal land of one or more Indian Tribes.

Determinations

Pursuant to NAGPRA and its implementing regulations, and after consultation with the appropriate Indian Tribes, the U.S. Department of the Interior, Bureau of Indian Affairs has determined that:

• The human remains described in this notice represent the physical remains of one individual of Native American ancestry.

• No relationship of shared group identity can be reasonably traced between the human remains and any Indian Tribe.

• The human remains described in this notice were removed from the tribal land of the Navajo Nation, Arizona, New Mexico, & Utah.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is a tribal land Indian Tribe.

Disposition of the human remains and associated funerary objects described in this notice to a requestor may occur on or after December 7, 2022. If competing requests for disposition are received, the U.S. Department of the Interior, Bureau of Indian Affairs must determine the most appropriate requestor prior to disposition. Requests for joint disposition of the human remains and associated funerary objects are considered a single request and not competing requests. The U.S. Department of the Interior, Bureau of Indian Affairs is responsible for sending a copy of this notice to the Indian Tribes identified in this notice.

Authority: Native American Graves Protection and Repatriation Act, 25 U.S.C. 3003, and the implementing regulations, 43 CFR 10.9 and 10.11.

Dated: October 26, 2022.
Melanie O'Brien,
Manager, National NAGPRA Program.

[FR Doc. 2022-24223 Filed 11-4-22; 8:45 am]

BILLING CODE 4312-52-P